DEPARTMENT OF COMMERCE

Foreign-Trade Zones Board

[B-32-2015]

Foreign-Trade Zone (FTZ) 83—Huntsville, Alabama; Notification of Proposed Production Activity, Toyota Motor Manufacturing Alabama, Inc., (Motor Vehicle Engines and Transmissions), Huntsville, Alabama

Toyota Motor Manufacturing Alabama, Inc. (TMMAL), an operator of FTZ 83, submitted a notification of proposed production activity to the FTZ Board for its facilities in Huntsville, Alabama. The notification conforming to the requirements of the regulations of the FTZ Board (15 CFR 400.22) was received on April 14, 2015.

A separate request for subzone designation at the TMMAL facilities will be submitted and processed under Section 400.31 of the FTZ Board's regulations. The facilities are used for the production of spark-ignition engines, transmissions and related components for passenger motor vehicles. Pursuant to 15 CFR 400.14(b), FTZ activity would be limited to the specific foreign-status materials and components and specific finished products described in the submitted notification (as described below) and subsequently authorized by the FTZ Board.

Production under FTZ procedures could exempt TMMAL from customs duty payments on the foreign status components used in export production. On its domestic sales, TMMAL would be able to choose the duty rate during customs entry procedures that applies to passenger motor vehicle engines, transmissions and related components (2.5%) for the foreign status inputs noted below. Customs duties also could possibly be deferred or reduced on foreign status production equipment.

The components sourced from abroad include: Plastic labels; plastic oil filler caps/clamps/oil seal rings; steel fittings/plugs/screws/bolts/pins/spring washers/hose clips; drain cock assemblies; valve levers; bearings (tapered roller, thrust, races, crank); flywheel subassemblies; pulleys; sprockets; key guides; washers (crankshaft); oil pressure switches; crank position sensors; and, wiring harnesses (duty rate ranges from 2.6 to 8.5%).

Public comment is invited from interested parties. Submissions shall be addressed to the FTZ Board's Executive Secretary at the address below. The closing period for their receipt is June 22, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: April 29, 2015.
Andrew McGilvray,
Executive Secretary.

[FR Doc. 2015-11571 Filed 5-12-15; 8:45 am]

BILLING CODE 3510-DS-P